DEPARTMENT OF TRANSPORTATION

Federal Aviation Administration

Programmatic Environmental Impact Statement: Launches and Reentries Under an Experimental Permit

AGENCY: Federal Aviation Administration (FAA), Office of Commercial Space Transportation.

ACTION: Notice of extension of scoping for the Programmatic Environmental Impact Statement (PEIS) for Experimental Permits.

SUMMARY: On March 27, 2006, the FAA published a Notice of Intent to prepare a PEIS for Experimental Permits in the Federal Register (71 FR 15251). The FAA has decided to extend the scoping period for the preparation of the PEIS to June 2, 2006. All comments received by June 2, 2006 will be considered in the preparation of the Draft PEIS.

FOR FURTHER INFORMATION CONTACT: Questions regarding this notice may be directed to Ms. Stacey M. Zee, FAA Environmental Specialist, c/o ICF Consulting, 9300 Lee Highway, Fairfax, VA 22031; via E-mail PEIS-Experimental-Permits@icfconsulting.com; or via fax at 703-934-3951. Envelopes and the subject line of e-mails or faxes should be labeled “Scoping for the Experimental Permits PEIS.”

Herbert Bachner,
Manager, Space Systems Development Division.

[FR Doc. E6-7049 Filed 5-8-06; 8:45 am]

BILLING CODE 4910-13-P